Title 3—

The President

Proclamation 7321 of June 9, 2000

Flag Day and National Flag Week, 2000

By the President of the United States of America

A Proclamation

Our long national journey has brought the United States safely to a new century and to a position of unprecedented leadership in the world. Throughout that journey, one symbol has endured as a badge of honor for every American and a beacon of hope for the oppressed: the flag of the United States.

For more than two centuries, “Old Glory” has challenged us to make real the highest ideals of the patriots and visionaries who chose it as our national symbol in the early days of our Republic. The flag of the United States has inspired us in battle, reassured us in times of peace, and comforted us at moments of great national grief. In its white stripes, we recognize the sanctity of the American ideals on which our Republic was founded: liberty, justice, equality, and the guarantee of individual rights. In its red stripes, we salute the generations of American patriots who have shed their blood to keep our flag flying over a free Nation. And in the cluster of white stars on an unchanging blue field, we read the story of America's remarkable evolution from 13 small colonies to 50 great States, with millions of citizens from every race, creed, and country united by the hopes and history we share as Americans.

To commemorate the adoption of our flag, the Congress, by joint resolution approved August 3, 1949 (63 Stat. 492), designated June 14 of each year as “Flag Day” and requested the President to issue an annual proclamation calling for a national observance and for the display of the flag of the United States on all Federal Government buildings. In a second joint resolution approved June 9, 1966 (80 Stat. 194), the Congress requested the President also to issue annually a proclamation designating the week during which June 14 falls as “National Flag Week” and calling upon all citizens of the United States to display the flag during that week.

NOW, THEREFORE, I, WILLIAM J. CLINTON, President of the United States of America, do hereby proclaim June 14, 2000, as Flag Day and the week beginning June 11, 2000, as National Flag Week. I direct the appropriate officials to display the flag on all Federal Government buildings during that week, and I urge all Americans to observe Flag Day and National Flag Week by flying the Stars and Stripes from their homes and other suitable places.

I also call upon the people of the United States to observe with pride and all due ceremony those days from Flag Day through Independence Day, also set aside by the Congress (89 Stat. 211), as a time to honor our Nation, to celebrate our heritage in public gatherings and activities, and to recite publicly the Pledge of Allegiance to the Flag of the United States of America.

IN WITNESS WHEREOF, I have hereunto set my hand this ninth day of June, in the year of our Lord two thousand, and of the Independence of the United States of America the two hundred and twenty-fourth.

wj

[FR Doc. 00-15169

Filed 6-13-00; 8:45 am]

Billing code 3195-01-P